DEPARTMENT OF AGRICULTURE

Animal and Plant Health Inspection Service

[Docket No. APHIS-2005-0117]

National Animal Identification System (NAIS); Administration of Official Identification Devices With the Animal Identification Number

AGENCY: Animal and Plant Health Inspection Service, USDA.

ACTION: Notice of availability.

SUMMARY: This notice makes available a document describing how an animal identification number (AIN) may be used in conjunction with official identification devices in the National Animal Identification System (NAIS). The document includes performance and printing requirements for visual identification tags with AINs and provides an explanation of the process by which these AIN tags will be authorized for use in the NAIS. Performance standards for radio frequency identification tags or devices that may be used on cattle or bison to supplement visual AIN tags are also presented. Finally, the document describes the AIN Management System, a Web-based system for distributing and administering AINs in the NAIS, and discusses the roles and responsibilities of key participants in the system.

FOR FURTHER INFORMATION CONTACT: Mr. Neil Hammerschmidt, NAIS Coordinator, Eradication and Surveillance Team, National Center for Animal Health Programs, VS, APHIS, 4700 River Road Unit 200, Riverdale, MD 20737-1231; (301) 734-5571.

SUPPLEMENTARY INFORMATION:

Background

As part of ongoing efforts to safeguard animal health, the U.S. Department of Agriculture (USDA) initiated implementation of the National Animal Identification System (NAIS) in 2004. The NAIS is a cooperative State-Federal-industry program administered by USDA's Animal and Plant Health Inspection Service (APHIS). Its long-term goal is to track all animal movements, from birth to harvest, as part of USDA's National Animal Health Monitoring and Surveillance Program.

In order to facilitate the implementation of the NAIS, on November 8, 2004, we published in the Federal Register (69 FR 64644-64651, Docket No. 04-052-1) an interim rule that, among other things, amended the regulations to recognize additional numbering systems for the identification of animals in interstate commerce and State/Federal/industry cooperative disease control and eradication programs and to redefine the numbering system used to identify premises where animals are managed or held. Specifically, the interim rule recognized the animal identification number (AIN) as an official numbering system for the identification of individual animals, the group/lot identification number (GIN) for the identification of groups or lots of animals within the same production system, and the seven-character premises identification number (PIN) for the identification of premises in the NAIS. Use of the new numbering systems was not, however, required as a result of the interim rule. Finally, the interim rule amended the regulations to prohibit the removal of official identification devices and to eliminate potential regulatory obstacles to the recognition of emerging technologies that could offer viable alternatives to existing animal identification devices and methods.

In May 2005, we made available for public review and comment a Draft Strategic Plan and a Draft Program Standards document (70 FR 29269-29270, Docket No. 05-015-2, May 20, 2005). The Draft Strategic Plan described the process of developing the NAIS, in particular the timeline for full implementation, while the Draft Program Standards document presented our view of how the system would work when fully implemented.

The current document, entitled “Administration of Official Identification Devices with the Animal Identification Number,” expands upon certain aspects of the NAIS that were presented in the Draft Program Standards. Specifically, we describe the use of the AIN in conjunction with official identification devices in the NAIS; present performance and printing requirements for visual AIN tags and explain the process by which these tags will be authorized for use in the NAIS; and provide performance standards for radio frequency identification (RFID) tags or devices that may be attached to cattle or bison to supplement visual AIN tags. We also describe the AIN Management System, a Web-based system for distributing and administering AINs in the NAIS, and discuss the roles and responsibilities of key participants in the system.

For producers who choose to participate in the NAIS, tags (generally eartags) imprinted with AINs will be an option for use with certain species, such as cattle, when visual, unique, individual official animal identification is necessary. These AIN tags will have to satisfy the requirements currently contained in the Code of Federal Regulations (CFR) for tags used for the identification of animals. For example, eartags imprinted with AINs will have to meet the criteria for recognition as official eartags in 9 CFR 71.1, including requirements that the eartags be tamper resistant and have a high retention rate in the animal. The document that we are now making available contains additional standards for AIN tag security (the tags must be tamper evident, i.e., impossible to remove and reapply without visual evidence of tampering), durability, readability, and printing characteristics.

The document also describes the process by which APHIS will authorize AIN tags for use in the NAIS. During the initial, voluntary phase of the NAIS, AIN tags that meet USDA standards for AIN tags will qualify for “USDA Approval Pending” status. When the NAIS becomes fully operational, more complete testing and evaluation procedures and an approval process for official identification devices will be available. At such time, a designation of “USDA Approved” will be established. APHIS will reserve the right to evaluate identification devices independently, using resources within the Agency or through contractual services with universities or private research firms, to verify compliance with tag specifications, either before or following issuance of USDA Approval Pending or USDA Approved status. Official identification devices may lose their USDA Approval Pending or USDA Approved status at any time if APHIS determines that the devices are substandard.

In addition to the visual AIN tags described above, which will be the official identifiers in the NAIS for certain species, producers may elect to incorporate supplemental identification methods or technologies. These supplemental technologies or methods may vary among species.

Cattle are a priority in the initial rollout of the NAIS. RFID devices appear, at this point, to be the preferred technology among cattle producers for use as a supplemental identification method. The document that we are now making available to the public contains standards for RFID AIN tags. These standards cover ISO compliance, electronic read rates and ranges, expected tag life, transponder security, and transponder failure rates.

As noted in the NAIS Draft Program Standards document, a key component of the NAIS is the AIN Management System. The AIN Management System is a Web-based system for distributing and administering AINs in the NAIS. Under the AIN Management System, AINs are allocated to companies that manufacture official identification devices or technologies. Other individuals and organizations may perform such roles as distributing these devices and technologies to producers, educating producers on their use, and maintaining records of AIN allocations.

The current document offers a more comprehensive description of the AIN Management System than did the Draft Program Standards, focusing, in particular, on the roles and responsibilities of key participants in the system. These key participants will include AIN tag manufacturers, AIN tag managers, and AIN tag resellers.

AIN tag manufacturers are companies that will be authorized by APHIS to manufacture approved identification devices. In order to be recognized as an AIN tag manufacturer, a company will have to enter into an AIN tag manufacturer agreement with APHIS and a marketing agreement with one or more tag managers and complete a training program provided by APHIS. AIN tag manufacturers will be responsible for the overall production and quality of AIN tags. They may only produce AIN tags with the AINs that have been allocated to them by APHIS and will have to maintain records of the tags that they distribute. AIN tag manufacturers may also be AIN tag managers.

AIN tag managers are individuals, organizations, or companies that will provide AIN tags to other AIN tag managers or resellers or directly to premises. In addition to distributing AIN tags, other responsibilities of the AIN tag manager will include validating the PINs of premises that are to receive the tags; maintaining records of tags received from manufacturers and distributed to premises, other managers, or resellers; submitting these records to the AIN Management System; and educating customers on the proper use of official identification devices. In order to be recognized as an AIN tag manager, the individual or entity will be required to agree to certain terms and conditions set forth by APHIS, which include the completion of a training program provided by APHIS, and to enter into a marketing agreement with an AIN tag manufacturer.

AIN tag resellers will perform the same functions as AIN tag managers, but will receive their AIN tags from AIN tag managers rather than directly from manufacturers. In order to be recognized by APHIS as an AIN tag reseller, the individual or entity will have to enter into a marketing agreement with an AIN tag manager and agree to APHIS' terms and conditions, which include the successful completion of a training program provided by APHIS.

The document regarding the administration of official identification devices employing the AIN may be viewed on the Internet at http://www.usda.gov/nais or on the Regulations.gov Web page.¹ You may request paper copies of the document by calling or writing to the person listed under FOR FURTHER INFORMATION CONTACT. Please refer to the title of the document (“Administration of Official Identification Devices with the Animal Identification Number”) when requesting copies.

¹ Go to http://www.regulations.gov, click on the “Advanced Search” tab and select “Docket Search.” In the Docket ID field, enter APHIS-2005-0117 then click on “Submit.” The document described in this notice will appear in the resulting list of documents.

Done in Washington, DC, this 27th day of February 2006.
Kevin Shea,
Acting Administrator, Animal and Plant Health Inspection Service.

[FR Doc. E6-3036 Filed 3-2-06; 8:45 am]

BILLING CODE 3410-34-P